ENVIRONMENTAL PROTECTION AGENCY

40 CFR Part 52

[EPA-HQ-OAR-2011-0081; FRL-9648-9]

RIN 2060-AR42

Revisions to Final Response to Petition From New Jersey Regarding SO2 Emissions From the Portland Generating Station

AGENCY: Environmental Protection Agency (EPA).

ACTION: Withdrawal of direct final rule.

SUMMARY: The EPA issued “Revisions to Final Response to Petition From New Jersey Regarding SO2 Emissions From the Portland Generating Station” as a direct final rule on December 22, 2011. Because the EPA received an adverse comment to the parallel proposal issued under the same name on December 22, 2011, we are withdrawing the direct final rule amendments to “Revisions to Final Response to Petition From New Jersey Regarding SO2 Emissions From the Portland Generating Station” published in the Federal Register on December 22, 2011.

DATES: As of March 16, 2012, the EPA withdraws the direct final rule amendments published on December 22, 2011. See 76 FR 79541.

ADDRESSES: The EPA has established a docket for this action under Docket ID No. EPA-HQ-OAR-2011-0081. All documents in the docket are listed on the http://www.regulations.gov Web site. Although listed in the index, some information is not publicly available, e.g., confidential business information or other information whose disclosure is restricted by statute. Certain other material, such as copyrighted material, is not placed on the Internet and will be publicly available only in hard copy form. Publicly available docket materials are available either electronically through http://www.regulations.gov or in hard copy at Air Docket, EPA/DC, EPA West, Room 3334, 1301 Constitution Ave., NW., Washington, DC. The Public Reading Room is open from 8:30 a.m. to 4:30 p.m., Monday through Friday, excluding legal holidays. The telephone number for the Public Reading Room is (202) 566-1744.

FOR FURTHER INFORMATION CONTACT: Mr. Todd Hawes (919) 541-5591, hawes.todd@epa.gov, or Ms. Gobeail McKinley (919) 541-5246, mckinley.gobeail@epa.gov, Office of Air Quality Planning and Standards, Air Quality Policy Division, Mail Code C539-04, Research Triangle Park, NC 27711.

SUPPLEMENTARY INFORMATION:

I. Background Information

The EPA issued “Revisions to Final Response to Petition From New Jersey Regarding SO2 Emissions From the Portland Generating Station” as a direct final rule on December 22, 2011. See 76 FR 79541. The direct final rule revised the preamble and rule text to the “Final Response to Petition From New Jersey Regarding SO2 Emissions From the Portland Generating Station” (Portland) published November 7, 2011, to clarify that Portland significantly contributes to nonattainment or interferes with maintenance of the 1-hour sulfur dioxide national ambient air quality standard in the State of New Jersey, and not in specific counties within the state. See 76 FR 69052. The revisions did not change the conclusions that the EPA made in the final rule and did not affect the emission limits, increments of progress, compliance schedules, or reporting provisions.

The EPA issued a parallel proposal under the same name on December 22, 2011, that proposed to make the same revisions outlined in the direct final and solicited comment on those revisions. See 76 FR 79574. We stated in the direct final rule amendments that if we received adverse comment to the parallel proposal by February 21, 2012, we would publish a timely notice of withdrawal of the direct final rule in the Federal Register. We received one adverse comment on the proposed amendments on February 21, 2012. We are consequently withdrawing the “Revisions to Final Response to Petition From New Jersey Regarding SO2 Emissions From the Portland Generating Station” published as a direct final rule in the Federal Register on December 22, 2012 as of March 16, 2012. See 76 FR 79541. The EPA will address the adverse comment in a subsequent final action based on the parallel proposal also published on December 22, 2011. See 76 FR 79574. As stated in the parallel proposal, we will not institute a second comment period on this action.

List of Subjects in 40 CFR Part 52

Approval and promulgation of implementation plans, Environmental protection, Administrative practice and procedures, Air pollution control, Incorporation by reference, Intergovernmental relations, and Reporting and recordkeeping requirements, Sulfur dioxide.

Dated: March 12, 2012.
Lisa P. Jackson,
Administrator.

PART 52—[AMENDED]

Accordingly, the amendments to the rule published in the Federal Register on December 22, 2011 (76 FR 79541) on pages 79541-79544 are withdrawn as of March 16, 2012.

[FR Doc. 2012-6427 Filed 3-15-12; 8:45 am]

BILLING CODE 6560-50-P